ENVIRONMENTAL PROTECTION AGENCY

40 CFR Part 60

[EPA-HQ-OAR-2014-0292; FRL-9963-67-OAR]

Correction to Incorporations by Reference

AGENCY: Environmental Protection Agency (EPA).

ACTION: Final rule; technical amendment.

SUMMARY: The Environmental Protection Agency (EPA) is taking action to correct paragraph numbering in the Incorporations by Reference (IBR) section of our regulations that specifically lists material that can be purchased from the American Society for Testing and Materials (ASTM). This action assigns the appropriate IBR paragraph numbers by correcting paragraph ordering errors.

DATES: Effective: June 23, 2017.

FOR FURTHER INFORMATION CONTACT: Mrs. Lula H. Melton, Air Quality Assessment Division, Office of Air Quality Planning and Standards (E143-02), Environmental Protection Agency, Research Triangle Park, NC 27711; telephone number: (919) 541-2910; fax number: (919) 541-0516; email address: melton.lula@epa.gov.

SUPPLEMENTARY INFORMATION: This action corrects paragraph ordering errors in 40 CFR 60.17(h) as highlighted in the editorial note at the end of § 60.17. The editorial note mentions that amendments could not be incorporated into § 60.17(h) as requested in a final rule published August 30, 2016 (Revisions to Test Methods, Performance Specifications, and Testing Regulations for Air Emission Sources (81 FR 59799)), because paragraph (h)(207) already existed as of the effective date. This issue occurred when two rules that both added incorporation by reference paragraphs in § 60.17(h) published out of order.

Section 553 of the Administrative Procedure Act (APA), 5 U.S.C. 553(b)(3)(B), provides that, when an agency for good cause finds that notice and public procedure are impracticable, unnecessary, or contrary to the public interest, the agency may issue a rule without providing notice and an opportunity for public comment. We have determined that there is good cause for making this technical amendment final without prior proposal and opportunity for public amendment because only simple publication errors are being corrected that do not substantially change the agency actions taken in the final rule. Thus, notice and public procedure are unnecessary. (See also the final sentence of section 307(d)(1) of the Clean Air Act (CAA), 42 U.S.C. 307(d)(1)), indicating that the good cause provisions in subsection 553(b) of the APA continue to apply to this type of rulemaking under section 307(d) of the CAA.)

List of Subjects in 40 CFR Part 60

Environmental protection, Administrative practice and procedure, Air pollution control, Incorporation by reference.

Dated: June 2, 2017.
Sarah Dunham,
Acting Assistant Administrator.

For the reasons stated in the preamble, the Environmental Protection Agency amends title 40, chapter I of the Code of Federal Regulations as follows:

PART 60—STANDARDS OF PERFORMANCE FOR NEW STATIONARY SOURCES

1. The authority citation for part 60 continues to read as follows:

Authority: 42 U.S.C. 7401, et seq.

2. In § 60.17:

a. Redesignate paragraphs (h)(191) through (202), (204), (205), and (207) as follows:

Old paragraph | New paragraph
(h)(191) | (h)(192)
(h)(192) | (h)(193)
(h)(193) | (h)(194)
(h)(194) | (h)(195)
(h)(195) | (h)(196)
(h)(196) | (h)(197)
(h)(197) | (h)(198)
(h)(198) | (h)(199)
(h)(199) | (h)(200)
(h)(200) | (h)(201)
(h)(201) | (h)(204)
(h)(202) | (h)(209)
(h)(204) | (h)(205)
(h)(205) | (h)(207)
(h)(207) | (h)(208)

b. Add paragraphs (h)(191) and (h)(202).

The additions read as follows:

§ 60.17 Incorporations by reference.

* * * * *

(h) * * *

(191) ASTM D6911-15, Standard Guide for Packaging and Shipping Environmental Samples for Laboratory Analysis, approved January 15, 2015, IBR approved for appendix A-8: Method 30B.

* * * * *

(202) ASTM E617-13, Standard Specification for Laboratory Weights and Precision Mass Standards, approved May 1, 2013, IBR approved for appendix A-3: Methods 4, 5, 5H, 5I, and appendix A-8: Method 29.

* * * * *

[FR Doc. 2017-12968 Filed 6-22-17; 8:45 am]

BILLING CODE 6560-50-P